DEPARTMENT OF COMMERCE

National Oceanic and Atmospheric Administration

Agency Information Collection Activities; Submission to the Office of Management and Budget (OMB) for Review and Approval; Comment Request; Pacific Cod Trawl Cooperative Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 18, 2025, during a 60-day comment period. This notice allows for an additional 30 days for public comments.

Agency: National Oceanic and Atmospheric Administration (NOAA), Commerce.

Title: Pacific Cod Trawl Cooperative Program.

OMB Control Number: 0648-0811.

Form Number(s): None.

Type of Request: Regular submission (extension and revision of a current information collection).

Number of Respondents: 13 respondents.

Average Hours per Response: Application for PCTC Cooperative Quota: 2 hours; Application for Inter-Cooperative Transfer of CQ: 10 minutes; Application for Transfer of PCTC QS for Processors: 2 hours; and Notification of Intent to Process PCTC: 30 minutes.

Total Annual Burden Hours: 15 hours.

Needs and Uses: This is a renewal and revision of a previously approved collection for the Pacific Cod Trawl Cooperative Program (PCTC Program). This collection contains ongoing information collection requirements submitted by participating harvesters and processors for the following forms: (1) Application for PCTC Program Cooperative Quota (CQ), (2) Application for Inter-Cooperative Transfer of CQ, (3) Application for Transfer of PCTC Program Quota Share (QS) for Processors, and (4) Notification of Intent to Process PCTC Program Pacific Cod. As part of this revision, NMFS is removing the following forms which are no longer needed: (1) Application for PCTC Program Quota Share (QS) and (2) Ninety-Day Transfer Window for Non-Exempt American Fisheries Act (AFA) License Limitation Program (LLP) holders. This revision also removes the formal appeal process for CQ allocations, as this was only used during implementation of the program.

The PCTC Program is a limited access privilege program for the harvest of Pacific cod in the Bering Sea and Aleutian Islands trawl catcher vessel sector. This program is necessary to increase the value of fishery, minimize bycatch to the extent practicable, provide for the sustained participation of fishery-dependent communities, ensure the sustainability and viability of the resource, and promote safety and stability in the harvesting and processing sectors.

This information collection contains the collection instruments necessary for the National Marine Fisheries Service (NMFS) to implement the PCTC Program and manage cooperative quota and quota share in this fishery.

Affected Public: Businesses or other for-profit organizations.

Frequency: Annually and as-needed.

Respondent's Obligation: Required to obtain or maintain benefits.

Legal Authority: NMFS manages the groundfish fisheries in the Exclusive Economic Zone off the coast of Alaska under the Fishery Management Plan for Groundfish of the Bering Sea and Aleutian Islands Management Area (BSAI FMP), the Fishery Management Plan for Groundfish of the Gulf of Alaska (GOA FMP), and the Northern Pacific Halibut Act of 1982, 16 U.S.C. 773c. The fishery management plans were prepared by the North Pacific Fishery Management Council (Council). The Magnuson-Stevens Fishery Conservation and Management Act, 16 U.S.C. 1801 et seq. (Magnuson-Stevens Act) authorizes the Council to prepare and amend fishery management plans for any fishery in waters under its jurisdiction.

This information collection request may be viewed at https://www.reginfo.gov. Follow the instructions to view the Department of Commerce collections currently under review by OMB.

Written comments and recommendations for the proposed information collection should be submitted within 30 days of the publication of this notice on the following website https://www.reginfo.gov/public/do/PRAMain. Find this particular information collection by selecting “Currently under 30-day Review—Open for Public Comments” or by using the search function and entering either the title of the collection or the OMB Control Number 0648-0811.

Sheleen Dumas,
Departmental PRA Compliance Officer, Office of the Under Secretary for Economic Affairs, Commerce Department.

[FR Doc. 2026-03472 Filed 2-20-26; 8:45 am]

BILLING CODE 3510-22-P